DEPARTMENT OF ENERGY

Federal Energy Regulatory Commission

[Docket No. EL02-111-031, et al.]

PJM Interconnection, L.L.C., et al.; Electric Rate and Corporate Filings

January 6, 2005.

The following filings have been made with the Commission. The filings are listed in ascending order within each docket classification.

1. PJM Interconnection, L.L.C.

[Docket No. EL02-111-031]

Take notice that on December 30, 2004, PJM Interconnection, L.L.C. (PJM), submitted a correction to the tariff revisions filed in this proceeding on November 24, 2004, to ensure that Schedule 13 of the PJM open access transmission tariff, fully complies with the Commission's November 18, 2004, order in this proceeding, 109 FERC ¶ 61,168. PJM states that the corrected sheet has an effective date from May 1, 2004, through November 30, 2004, corresponding to the period that Schedule 13 was effective.

PJM states that copies of this filing were served upon all persons on the service list in this docket, as well as all PJM members, and each state electric utility regulatory commission in the PJM region.

Comment Date: 5 p.m. eastern time on January 14, 2005.

2. Alpena Power Generation, L.L.C.

[Docket No. ER04-1004-003]

Take notice that on January 5, 2005, Alpena Power Generation, L.L.C. (Alpena Generation) tendered for filing an amendment to its July 9, 2004, filing, which was amended on August 27, 2004, and November 5, 2004, in response to the Commission's deficiency letter issued January 4, 2005.

Alpena Generation states that copies of the filing were served upon the public utility's jurisdictional customers and the Michigan Public Service Commission.

Comment Date: 5 p.m. eastern time on January 18, 2005.

3. Midwest Independent Transmission System Operator, Inc.

[Docket No. ER05-395-000]

Take notice that on December 30, 2004, the Midwest Independent Transmission System Operator, Inc. (Midwest ISO) filed an Interconnection and Operating Agreement among West Pipestone Transmission LLC, Northern States Power Company d/b/a Xcel Energy and the Midwest ISO. The Midwest ISO requests an effective date of December 15, 2004.

The Midwest ISO states that a copy of the filing was served on the parties to the Interconnection and Operating Agreement.

Comment Date: 5 p.m. eastern time on January 21, 2005.

4. MidAmerican Energy Company

[Docket No. ER05-396-000]

Take notice that on December 30, 2004, MidAmerican Energy Company (MidAmerican) filed a Network Integration Transmission Service Agreement and a Network Operating Agreement between MidAmerican and the Resale Power Group of Iowa (RPGI), as agent for the City of Hudson, Iowa. MidAmerican requests an effective date of January 1, 2005.

MidAmerican states that a copy of the filing has been served on RPGI, the Iowa Utilities Board, the Illinois Commerce Commission and the South Dakota Public Utilities Commission.

Comment Date: 5 p.m. eastern time on January 21, 2005.

5. Alabama Power Company

[Docket No. ER05-398-000]

Take notice that on December 30, 2004, Southern Company Services, Inc. (SCS), on behalf of Alabama Power Company and Georgia Power Company filed a Transmission Facilities Agreement by and between Alabama Power Company and Georgia Power Company.

SCS states that copies of the filing were served on the Alabama Public Service Commission and the Georgia Public Service Commission.

Comment Date: 5 p.m. eastern time on January 21, 2005.

6. Savannah Electric and Power Company

[Docket No. ER05-399-000]

Take notice that on December 30, 2004, Southern Company Services, Inc. (SCS), on behalf of Savannah Electric and Power Company and Georgia Power Company, submitted a Transmission Facilities Agreement by and between Savannah Electric and Power Company and Georgia Power Company.

SCS states that a copy of the filing was served on the Georgia Public Service Commission.

Comment Date: 5 p.m. eastern time on January 21, 2005.

7. Pacific Gas and Electric Company

[Docket No. ER05-400-000]

Take notice that on December 30, 2004, Pacific Gas and Electric Company (PG&E) filed three Generator Special Facilities Agreements and three Generator Interconnection Agreements between PG&E and Tri-Dam Project of the South San Joaquin and Oakdale Irrigation District (Tri-Dam). PG&E requests an effective date of January 1, 2005.

PG&E states that copies of the filing were served on Tri-Dam, California Independent System Operator Corporation and the California Public Utilities Commission.

Comment Date: 5 p.m. eastern time on January 21, 2005.

8. New England Power Pool

[Docket No. ER05-403-000]

Take notice that on December 30, 2004, the New England Power Pool (NEPOOL) Participants Committee filed the One Hundred Tenth Agreement Amending New England Power Pool Agreement which modifies the Financial Assurance Policy for NEPOOL Members. NEPOOL requests a March 1, 2005, effective date.

The Participants committee states that copies of the filing were sent to the New England state governors and regulatory commissions and the Participants in NEPOOL.

Comment Date: 5 p.m. eastern time on January 21, 2005.

9. Southern Company Services, Inc.

[Docket No. ER05-404-000]

Take notice that on December 30, 2004, Southern Company Services, Inc. (SCS), acting as agent for Alabama Power Company, Georgia Power Company, Gulf Power Company, Mississippi Power Company and Savannah Electric and Power Company (collectively, Southern Companies) filed a network integrated transmission service agreement between SCS, as agent for Southern Companies and Generation Energy Marketing, a Department of Southern Company Services, Inc., as agent for Mississippi Power Company. SCS requests an effective date of December 1, 2004.

Comment Date: 5 p.m. eastern time on January 21, 2005.

10. California Independent System Operator Corporation

[Docket No. ER05-405-000]

Take notice that on December 30, 2004, the California Independent System Operator Corporation (ISO) filed the District Interim Operations Agreement between the ISO and Turlock Irrigation District to accommodate a planned change in Control Area boundaries related to the decision of the Western Area Power Administration—Sierra Nevada Region (Western) to join the Control Area of the Sacramento Municipal Utility District of (SMUD) as of January 1, 2005. The ISO requests an effective date of January 1, 2005.

The ISO states that the filing has been served on Western, SMUD, Pacific Gas and Electric Company, the California Public Utilities Commission, the California Electricity Oversight Board, and all entities on the official service list for Docket No. ER04-693.

Comment Date: 5 p.m. eastern time on January 21, 2005.

11. Williams Power Company, Inc.

[Docket No. ER05-406-000]

Take notice that on December 30, 2004, Williams Power Company, Inc. (Williams) submitted a Schedule F Information Filing under its Reliability Must-Run Service Agreements with the California Independent System Operator Corporation (ISO) for the Alamitos and Huntington Beach generating facilities. Williams also submitted revised tariff sheets reflecting the charges and rates contained in the Schedule F Information Filing.

Williams states that copies of the filing have been served on the ISO, the California Electricity Oversight Board, Southern California Edison Company, the California Public Utilities Commission and AES Southland, L.L.C.

Comment Date: 5 p.m. eastern time on January 21, 2005.

12. California Independent System Operator Corporation

[Docket No. ER05-407-000]

Take notice that on December 30, 2004, the California Independent System Operator Corporation (ISO) filed the MID Operations Agreement between ISO and Modesto Irrigation District (MID) between the ISO and MID to accommodate a planned change in Control Area boundaries related to the decision of the Western Area Power Administration—Sierra Nevada Region (Western) to join the Control Area of the Sacramento Municipal Utility District of (SMUD) as of January 1, 2005. The ISO requests an effective date of January 1, 2005.

The ISO states that the filing has been served on Western, SMUD, Pacific Gas and Electric Company, the California Public Utilities Commission, the California Electricity Oversight Board, and all entities on the official service list for Docket No. ER04-693.

Comment Date: 5 p.m. eastern time on January 21, 2005.

13. Wisconsin Public Service Corporation

[Docket No. ER05-409-000]

Take notice that on December 30, 2004, Wisconsin Public Service Corporation (WPSC) filed a depreciation cost study and revised depreciation rates for wholesale production service. WPSC requests an effective date of January 1, 2005.

WPSC states that copies of the filing were served on WPSC's affected wholesale customers, the Public Service Commission of Wisconsin and the Michigan Public Service Commission.

Comment Date: 5 p.m. eastern time on January 21, 2005.

14. Southern Company Services, Inc.

[Docket No. ER05-413-000]

Take notice that on December 30, 2004, Southern Company Services, Inc. (SCS), acting as agent for Alabama Power Company, Georgia Power Company, Gulf Power Company, Mississippi Power Company and Savannah Electric and Power Company (collectively, Southern Companies) filed a rollover transmission service agreement between Southern Companies and Progress Ventures, Inc. SCS requests an effective date of December 1, 2004.

SCS states that a copy of the filing has been sent to Progress Ventures, Inc.

Comment Date: 5 p.m. eastern time on January 21, 2005.

15. American Transmission Systems, Incorporated

[Docket No. ER05-414-000]

Take notice that on December 30, 2004, American Transmission System, Incorporated (ATSI) filed proposed revisions to its Open Access Transmission Tariff, FERC Electric Tariff, Third Revised Volume No.1, intended to correspond with changes in compensation provisions for energy imbalance service and for system losses that will be implemented when the Open Access Transmission and Energy Markets Tariff of Midwest Independent Transmission System Operator, Inc. becomes effective.

Comment Date: 5 p.m. eastern time on January 21, 2005.

16. Southwest Power Pool, Inc.

[Docket No. ER05-415-000]

Take notice that on December 30, 2004, Southwest Power Pool, Inc. (SPP) filed changes to the SPP Open Access Transmission Tariff intended to implement certain rate changes applicable to the Southwestern Power Administration pricing zone. SPP requests an effective date of January 1, 2005.

SPP states that copies of its transmittal letter has been served on each of its members and customers and that a complete copy of the filing will be posted on the SPP web site and served on all affected state commissions.

Comment Date: 5 p.m. eastern time on January 21, 2005.

17. California Independent System Operator Corporation

[Docket No. ER05-416-000]

Take notice that on December 30, 2004, the California Independent System Operator Corporation (ISO) submitted an informational filing as to the ISO's revised transmission Access Charge rates effective January 1, 2005, to implement the revised Transmission Revenue Balancing Accounts of the current Participating Transmission Owners.

The ISO states that the filing has been served on the California Public Utilities Commission, the California Energy Commission, the California Electricity Oversight Board, the Participating Transmission Owners, and all parties with effective Scheduling Coordinator Service Agreements under the ISO Tariff. In addition, the ISO states that it is posting the filing on the ISO home page.

Comment Date: 5 p.m. eastern time on January 21, 2005.

18. Duke Energy Grays Harbor, LLC

[Docket No. ER05-417-000]

Take notice that on December 30, 2004, Duke Energy Grays Harbor, LLC (Duke Grays Harbor) submitted a Notice of Cancellation of its FERC Electric Tariff, Original Volume No. 1. Duke Grays Harbor requests an effective date of December 31, 2004.

Comment Date: 5 p.m. eastern time on January 21, 2005.

19. Southwest Power Pool, Inc.

[Docket No. RT04-1-009]

Take notice that on December 30, 2004, Southwest Power Pool, Inc. (SPP) filed a status report on its efforts to develop a transmission cost allocation plan pursuant to the Commission's order issued February 10, 2004, in this proceeding, 106 FERC ¶ 61,110 (2004). SPP states that it expects that the development process will be completed by the end of February 2005 and that a filing will be made within that timeframe.

SPP states that it has served a copy of its status report on all parties to this proceeding and that a copy of this filing will be posted on the SPP Web site http://www.spp.org.

Comment Date: 5 p.m. eastern time on January 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-192 Filed 1-18-05; 8:45 am]

BILLING CODE 6717-01-P